DEPARTMENT OF DEFENSE

GENERAL SERVICES ADMINISTRATION

NATIONAL AERONAUTICS AND SPACE ADMINISTRATION

48 CFR Parts 42 and 52

[FAC 2021-07; Item V; Docket No. FAR-2021-0052; Sequence No. 3]

Federal Acquisition Regulation; Technical Amendments

AGENCY: Department of Defense (DoD), General Services Administration (GSA), and National Aeronautics and Space Administration (NASA).

ACTION: Final rule.

SUMMARY: This document makes amendments to the Federal Acquisition Regulation (FAR) in order to make needed editorial changes.

DATES: Effective September 10, 2021.

FOR FURTHER INFORMATION CONTACT: Ms. Lois Mandell, Regulatory Secretariat Division (MVCB), at 202-501-4755 or GSARegSec@gsa.gov. Please cite FAC 2021-07, Technical Amendments.

SUPPLEMENTARY INFORMATION: This document makes editorial changes to 48 CFR parts 42 and 52.

List of Subjects in 48 CFR Parts 42 and 52

Government procurement.

William F. Clark,
Director, Office of Government-wide Acquisition Policy, Office of Acquisition Policy, Office of Government-wide Policy.

Therefore, DoD, GSA, and NASA amend 48 CFR parts 42 and 52 as set forth below:

1. The authority citation for 48 CFR parts 42 and 52 continues to read as follows:

Authority: 40 U.S.C. 121(c); 10 U.S.C. chapter 137; and 51 U.S.C. 20113.

PART 42—CONTRACT ADMINISTRATION AND AUDIT SERVICES

42.709-0 through 42.709-6 [Redesignated as 42.709-1 through 42.709-7]

2. Redesignate sections 42.709-0 through 42.709-6 as sections 42.709-1 through 42.709-7.

42.709-3 [Amended]

3. Amend newly redesignated section 42.709-3 by—

a. In paragraph (a)(1) removing “42.709-1(a)” and adding “42.709-2(a)” in its place;

b. In paragraph (a)(2) removing “42.709-5” and adding “42.709-6” in its place; and

c. In paragraph (b)(1) removing “42.709-1(a)” and adding “42.709-2(a)” in its place.

42.709-4 [Amended]

4. Amend newly designated section 42.709-4 by—

a. In the introductory text removing “42.709-5” and adding “42.709-6” in its place;

b. In paragraph (a) removing “42.709-1(a)(1)” and adding “42.709-2(a)(1)” in its place; and

c. In paragraph (b) introductory text removing “42.709-1(a)(2)” and adding “42.709-2(a)(2)” in its place.

42.709-5 [Amended]

5. Amend newly designated section 42.709-5 by removing from the introductory text “42.709-1(a)(1)(ii)” and adding “42.709-2(a)(1)(ii)” in its place.

42.709-6 [Amended]

6. Amend newly designated section 42.709-6 by—

a. In the introductory text removing “42.709-1(a)” and adding “42.709-2(a)” in its place; and

b. In paragraph (b) removing “42.709(b)” and adding “42.709-1(b)” in its place.

PART 52—SOLICITATION PROVISIONS AND CONTRACT CLAUSES

7. Amend section 52.242-3 by—

a. Removing from the prescription text “42.709-6” and adding “42.709-7” in its place;

b. Revising the date of the clause;

c. Removing from paragraph (c) “Subpart” and adding “subpart” in its place; and

d. Removing from paragraph (g) “42.709-5” and adding “42.709-6” in its place.

The revision reads as follows:

52.242-3 Penalties for Unallowable Costs.

* * * * *

Penalties for Unallowable Costs (SEP 2021)

* * * * *

8. Amend section 52.245-1 by—

a. Revising the date of clause; and

b. Removing paragraphs (j)(2)(iii)(A) through (G).

The revision reads as follows:

52.245-1 Government Property.

* * * * *

Government Property (SEP 2021)

* * * * *

[FR Doc. 2021-16367 Filed 8-10-21; 8:45 am]

BILLING CODE 6820-EP-P